DEPARTMENT OF ENERGY

Federal Energy Regulatory Commission

Combined Notice of Filings #2

Take notice that the Commission received the following electric rate filings:

Docket Numbers: ER10-2538-008; ER14-1317-007; ER17-2074-001.

Applicants: Burney Forest Products, A Joint Venture, Panoche Energy Center, LLC, Sunshine Gas Producers, LLC.

Description: Supplement to March 8, 2018 Notice of Non-Material Change in Status of Burney Forest Products, A Joint Venture, et al.

Filed Date: 4/26/18.

Accession Number: 20180426-5272.

Comments Due: 5 p.m. ET 5/17/18.

Docket Numbers: ER18-975-001.

Applicants: Arizona Public Service Company.

Description: Tariff Amendment: Amended Revisions to OATT Formula Transmission Rate to be effective 5/7/2018.

Filed Date: 4/27/18.

Accession Number: 20180427-5198.

Comments Due: 5 p.m. ET 5/18/18.

Docket Numbers: ER18-1456-000.

Applicants: Southwest Power Pool, Inc.

Description: § 205(d) Rate Filing: 1910R11 Southwestern Public Service Company NITSA NOA to be effective 4/1/2018.

Filed Date: 4/27/18.

Accession Number: 20180427-5094.

Comments Due: 5 p.m. ET 5/18/18.

Docket Numbers: ER18-1457-000.

Applicants: Tucson Electric Power Company.

Description: § 205(d) Rate Filing: Concurrence to APS RS No. 152 to be effective 5/1/2018.

Filed Date: 4/27/18.

Accession Number: 20180427-5132.

Comments Due: 5 p.m. ET 5/18/18.

Docket Numbers: ER18-1458-000.

Applicants: Duke Energy Florida, LLC.

Description: § 205(d) Rate Filing: Joint OATT Real Power Losses (DEF) 2018 Update to be effective 5/1/2018.

Filed Date: 4/27/18.

Accession Number: 20180427-5133.

Comments Due: 5 p.m. ET 5/18/18.

Docket Numbers: ER18-1459-000.

Applicants: Southern California Edison Company.

Description: § 205(d) Rate Filing: Amended IFA Cabazon Wind Partners, LLC to be effective 5/1/2018.

Filed Date: 4/27/18.

Accession Number: 20180427-5137.

Comments Due: 5 p.m. ET 5/18/18.

Docket Numbers: ER18-1460-000.

Applicants: Pacific Gas and Electric Company.

Description: § 205(d) Rate Filing: Amendment No. 1 to the Lathrop Irrigation District 60 kV IA (SA 298) to be effective 5/1/2018.

Filed Date: 4/27/18.

Accession Number: 20180427-5169.

Comments Due: 5 p.m. ET 5/18/18.

Docket Numbers: ER18-1461-000.

Applicants: Alabama Power Company

Description: § 205(d) Rate Filing: SP Sandhills Solar (Taylor Co Solar Facility I—143 MW) LGIA Amendment Filing to be effective 4/1/2018.

Filed Date: 4/27/18.

Accession Number: 20180427-5212.

Comments Due: 5 p.m. ET 5/18/18.

Docket Numbers: ER18-1462-000.

Applicants: Alabama Power Company.

Description: § 205(d) Rate Filing: Twiggs County Solar (Twiggs Solar) LGIA Filing to be effective 4/13/2018.

Filed Date: 4/27/18.

Accession Number: 20180427-5213.

Comments Due: 5 p.m. ET 5/18/18.

Docket Numbers: ER18-1463-000.

Applicants: Southwest Power Pool, Inc.

Description: § 205(d) Rate Filing: 3435 Magnet Wind Farm GIA to be effective 4/13/2018.

Filed Date: 4/27/18.

Accession Number: 20180427-5214.

Comments Due: 5 p.m. ET 5/18/18.

Docket Numbers: ER18-1464-000.

Applicants: Midcontinent Independent System Operator, Inc.

Description: § 205(d) Rate Filing: 2018-04-27_Tariff revisions regarding Sub-Regional Power Balance to be effective 6/27/2018.

Filed Date: 4/27/18.

Accession Number: 20180427-5243.

Comments Due: 5 p.m. ET 5/18/18.

Take notice that the Commission received the following electric securities filings:

Docket Numbers: ES18-31-000.

Applicants: AEP Generating Company.

Description: Application under Section 204 of the Federal Power Act for Authorization to Issue Securities of AEP Generating Company.

Filed Date: 4/27/18.

Accession Number: 20180427-5185.

Comments Due: 5 p.m. ET 5/18/18.

Docket Numbers: ES18-32-000.

Applicants: Southwestern Electric Power Company.

Description: Application under Section 204 of the Federal Power Act for Authorization to Issue Securities of Southwestern Electric Power Company.

Filed Date: 4/27/18.

Accession Number: 20180427-5186.

Comments Due: 5 p.m. ET 5/18/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 27, 2018.
Kimberly D. Bose,
Secretary.

[FR Doc. 2018-09451 Filed 5-3-18; 8:45 am]

BILLING CODE 6717-01-P